DEPARTMENT OF COMMERCE

National Oceanic and Atmospheric Administration

RIN 0648-XG407

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Law Enforcement Committee, Tilefish Committee, and Highly Migratory Species Committee will jointly hold a public meeting.

DATES: The meeting will be held on Thursday, September 20, 2018, from 11 a.m. until 1 p.m.

ADDRESSES: The meeting will be held via conference call. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's (MAFMC's) Law Enforcement Committee, Tilefish Committee, and Highly Migratory Species Committee will jointly to discuss two important issue: (1) The sale of golden tilefish and tuna by recreational vessels that do not possess permits allowing for the sale of those species or possess Coast Guard vessel safety requirements for commercial vessels; (2) Responsibilities of for-hire captains regarding fishing regulation (e.g., minimum size limit, bag limit) on for hire-trips. The purpose of the conference call is to discuss these two issues and develop an agenda and set of questions to be discussed at a workshop at a later date. An agenda and background documents will be posted at the Council's website (www.mafmc.org) prior to the meeting.

Special Accommodations

The meeting is physically accessible to people with disabilities. Requests for sign language interpretation or other auxiliary aid should be directed to M. Jan Saunders, (302) 526-5251, at least 5 days prior to the meeting date.

Dated: August 22, 2018.
Tracey L. Thompson,
Acting Deputy Director, Office of Sustainable Fisheries, National Marine Fisheries Service.

[FR Doc. 2018-18447 Filed 8-24-18; 8:45 am]

BILLING CODE 3510-22-P